DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel PAR-21-321: Cancer Center Support Grants.

Date: September 16-17, 2025.

Time: 10:00 a.m. to 6:00 p.m.

Agenda: To review and evaluate grant applications.

Address: National Institutes of Health, Rockledge II, 6701 Rockledge Drive, Bethesda, MD 20892.

Meeting Format: Virtual Meeting.

Contact Person: Eun Ah Cho, Ph.D., Scientific Review Officer, Cancer Diagnosis, Prevention & Therapeutics (CDPT), Center for Scientific Review, National Cancer Institute, NIH, 6701 Rockledge Drive, Bethesda, MD 20892, (301) 496-3591, choe@mail.nih.gov.

Name of Committee: Emerging Technologies and Training Neurosciences Integrated Review Group: Molecular Neurogenetics Study Section.

Date: October 2-3, 2025.

Time: 9:00 a.m. to 7:00 p.m.

Agenda: To review and evaluate grant applications.

Address: National Institutes of Health, Rockledge II, 6701 Rockledge Drive, Bethesda, MD 20892.

Meeting Format: Virtual Meeting.

Contact Person: Prithi Rajan, Ph.D., Scientific Review Officer, National Institute of Neurological Disorders and Stroke, National Institutes of Health, 6001 Executive Blvd., 5th Floor, MSC 9531, Bethesda, MD 20892, prithi.rajan@nih.gov.

Name of Committee: Digestive, Kidney and Urological Systems Integrated Review Group: Digestive and Nutrient Physiology and Diseases Study Section.

Date: October 9-10, 2025.

Time: 8:30 a.m. to 6:00 p.m.

Agenda: To review and evaluate grant applications.

Address: National Institutes of Health, Rockledge II, 6701 Rockledge Drive, Bethesda, MD 20892.

Meeting Format: Virtual Meeting.

Contact Person: Aster Juan, Ph.D., Scientific Review Officer, Center for Scientific Review, National Institutes of Health, 6701 Rockledge Drive, Bethesda, MD 20817, 301-435-5000, juana2@mail.nih.gov.

Name of Committee: Digestive, Kidney and Urological Systems Integrated Review Group: Kidney and Urological Systems Function and Dysfunction Study Section.

Date: October 9-10, 2025.

Time: 9:00 a.m. to 6:00 p.m.

Agenda: To review and evaluate grant applications.

Address: National Institutes of Health, Rockledge II, 6701 Rockledge Drive, Bethesda, MD 20892.

Meeting Format: Virtual Meeting.

Contact Person: Santanu Banerjee, Ph.D., Scientific Review Officer, Center for Scientific Review, National Institutes of Health, 6701 Rockledge Drive, Room 2106, Bethesda, MD 20892 (301) 435-5947, banerjees5@mail.nih.gov.

Name of Committee: Oncology 2—Translational Clinical Integrated Review Group: Therapeutic Immune Regulation Study Section.

Date: October 9-10, 2025.

Time: 9:00 a.m. to 7:00 p.m.

Agenda: To review and evaluate grant applications.

Address: National Institutes of Health, Rockledge II, 6701 Rockledge Drive, Bethesda, MD 20892.

Meeting Format: Virtual Meeting.

Contact Person: Yue Wu, Ph.D., Scientific Review Officer, Center for Scientific Review, National Institutes of Health, 6701 Rockledge Drive, Room 803C, Bethesda, MD 20892 (301) 867-5309, wuy25@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: July 29, 2025.
Sterlyn H. Gibson,
Program Specialist, Office of Federal Advisory Committee Policy.

[FR Doc. 2025-14512 Filed 7-30-25; 8:45 am]

BILLING CODE 4140-01-P